DEPARTMENT OF COMMERCE

National Oceanic and Atmospheric Administration

RIN 0648-XD789

Taking and Importing Marine Mammals; Taking Marine Mammals Incidental to U.S. Marine Corps Training Exercises at Brant Island Bombing Target and Piney Island Bombing Range, USMC Cherry Point Range Complex, North Carolina

AGENCY: National Marine Fisheries Service (NMFS), National Oceanic and Atmospheric Administration (NOAA), Commerce.

ACTION: Notice of issuance of a Letter of Authorization.

SUMMARY: In accordance with the Marine Mammal Protection Act (MMPA), as amended, and implementing regulations, notification is hereby given that a Letter of Authorization (LOA) has been issued to the U.S. Marine Corps (Marine Corps) to take marine mammals, by harassment, incidental to training operations at the Brant Island Bombing Target (BT-9) and Piney Island Bombing Range (BT-11) located within the Marine Corps' Cherry Point Range Complex in Pamlico Sound, NC.

DATES: Effective from March 13, 2015, through March 12, 2020.

ADDRESSES: The LOA and supporting documentation may be obtained by writing to Jolie Harrison, Division Chief, Permits and Conservation Division, Office of Protected Resources, NMFS, 1315 East West-Highway, Silver Spring, MD 20910, calling the contact listed under FOR FURTHER INFORMATION CONTACT, or visiting the Internet at: http://www.nmfs.noaa.gov/pr/permits/incidental/military.htm. Documents cited in this notice may also be viewed, by appointment, during regular business hours at the above address.

FOR FURTHER INFORMATION CONTACT: Jeannine Cody, Office of Protected Resources, NMFS, (301) 427-8401.

SUPPLEMENTARY INFORMATION:

Background

Section 101(a)(5)(A) of the MMPA (16 U.S.C. 1361 et seq.) directs the Secretary of Commerce (Secretary) to allow, upon request, the incidental, but not intentional taking of small numbers of marine mammals by U.S. citizens who engage in a specified activity (other than commercial fishing) within a specified geographical region if certain findings are made and regulations are issued. Under the MMPA, the term “take” means to harass, hunt, capture, or kill or to attempt to harass, hunt, capture, or kill any marine mammal.

Authorization for incidental takings may be granted if NMFS finds that the taking will have a negligible impact on the species or stock(s), will not have an unmitigable adverse impact on the availability of the species or stock(s) for certain subsistence uses, and that the permissible methods of taking and requirements pertaining to the mitigation, monitoring and reporting of such taking are set forth. NMFS has defined “negligible impact” in 50 CFR 216.103 as: “an impact resulting from the specified activity that cannot be reasonably expected to, and is not reasonably likely to, adversely affect the species or stock through effects on annual rates of recruitment or survival.”

The National Defense Authorization Act of 2004 (NDAA) (Pub. L. 108-136) removed the “small numbers” and “specified geographical region” limitations and amended the definition of “harassment” as it applies to a “military readiness activity” to read as follows (Section 3(18)(B) of the MMPA): “(i) Any act that injures or has the significant potential to injure a marine mammal or marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].” Because the Marine Corps' activities constitute military readiness activities, they are not subject to the small numbers or specified geographic region limitations.

NMFS issued regulations governing the take of one species of marine mammal, by Level A and Level B harassment, incidental to training activities on March 13, 2015. These regulations include mitigation, monitoring, and reporting requirements for the incidental take of marine mammals during the specified activities.

This LOA is effective from March 13, 2015, through March 12, 2020, and authorizes the incidental take of bottlenose dolphins that may result from the training exercises occurring at the BT-9 and BT-11 bombing targets located within the Marine Corps' Cherry Point Range Complex in Pamlico Sound, NC.

The Marine Corps would conduct weapons delivery training exercises (air-to-surface and surface-to-surface) at the two water-based bombing targets located within the Cherry Point Range Complex in North Carolina. The military readiness activities would occur between March 2015 and March 2020, year-round, day or night. The Marine Corps proposes to use small arms, large arms, bombs, rockets, grenades, and pyrotechnics for the air-to-surface and surface-to-surface training exercises, which qualify as military readiness activities. NMFS anticipates that take, by Level B (behavioral) and Level A harassment of individuals of Atlantic bottlenose dolphin (Tursiops truncatus) would result from the training exercises. The noise generated by the Marine Corps' activities would result in the incidental harassment of bottlenose dolphins, both behaviorally and in terms of physiological (auditory) impacts.

Take of marine mammals will be minimized through the implementation of the following mitigation and monitoring measures:

• Required pre- and post-exercise monitoring of the training areas to detect the presence of marine mammals during training exercises.

• Required monitoring of the training areas during active training exercises with required suspensions/delays of training activities if a marine mammal enters within any of the designated mitigation zones.

• Required reporting of stranded or injured marine mammals in the vicinity of the BT-9 and BT-11 bombing targets located within the Marine Corps' Cherry Point Range Complex in Pamlico Sound, North Carolina to the NMFS Marine Mammal Stranding Network.

• Required research on a real-time acoustic monitoring system to automate detection of bottlenose dolphins in the training areas.

Through this LOA, the Marine Corps is required to monitor for marine mammals and submit an annual report to NMFS by June 1, annually. The report will include data collected from the monitoring program. Additional information on the mitigation, monitoring, and reporting requirements can be found in the final rule (80 FR 13264, March 13, 2015). The Marine Corps is also required to submit a comprehensive report, which shall provide full documentation of methods, results, and interpretation of all monitoring during the period of effectiveness of this LOA.

This Authorization remains valid through March 12, 2020 provided the Marine Corps remains in conformance with the conditions of the regulations and the LOA, and the mitigation, monitoring, and reporting requirements described in 50 CFR 218.240 through 218.249 and the LOA are implemented.

Dated: April 13, 2015.
Donna S. Wieting,
Director, Office of Protected Resources, National Marine Fisheries Service.

[FR Doc. 2015-08841 Filed 4-16-15; 8:45 am]

BILLING CODE 3510-22-P